DEPARTMENT OF ENERGY

Federal Energy Regulatory Commission

Combined Notice of Filings

Take notice that the Commission has received the following Natural Gas Pipeline Rate and Refund Report filings:

Filings Instituting Proceedings

Docket Numbers: RP26-251-000.

Applicants: Transcontinental Gas Pipe Line Company, LLC.

Description: § 4(d) Rate Filing: Negotiated Rates—FTNP—NextEra Energy Marketing to be effective 12/1/2025.

Filed Date: 11/28/25.

Accession Number: 20251128-5091.

Comment Date: 5 p.m. ET 12/10/25.

Docket Numbers: RP26-252-000.

Applicants: Equitrans, L.P.

Description: § 4(d) Rate Filing: Negotiated Rate Capacity Release Agreements—12/1/2025 to be effective 12/1/2025.

Filed Date: 12/1/25.

Accession Number: 20251201-5342.

Comment Date: 5 p.m. ET 12/15/25.

Docket Numbers: RP26-253-000.

Applicants: Equitrans, L.P.

Description: § 4(d) Rate Filing: Negotiated Rate Agreements—12/1/2025 to be effective 12/1/2025.

Filed Date: 12/1/25.

Accession Number: 20251201-5345.

Comment Date: 5 p.m. ET 12/15/25.

Docket Numbers: RP26-255-000.

Applicants: MountainWest Pipeline, LLC.

Description: § 4(d) Rate Filing: Fuel Gas Reimbursement Percentage for 2026 to be effective 1/1/2026.

Filed Date: 12/1/25.

Accession Number: 20251201-5385.

Comment Date: 5 p.m. ET 12/15/25.

Docket Numbers: RP26-256-000.

Applicants: Transwestern Pipeline Company, LLC.

Description: § 4(d) Rate Filing: Negotiated Rate Filing—PNM Wholesale Power Marketing to be effective 1/1/2026.

Filed Date: 12/1/25.

Accession Number: 20251201-5392.

Comment Date: 5 p.m. ET 12/15/25.

Docket Numbers: RP26-257-000.

Applicants: Alliance Pipeline L.P.

Description: § 4(d) Rate Filing: APL 2025 Rate Case Filing to be effective 1/1/2026.

Filed Date: 12/1/25.

Accession Number: 20251201-5396.

Comment Date: 5 p.m. ET 12/15/25.

Docket Numbers: RP26-258-000.

Applicants: Chandeleur Pipe Line, LLC.

Description: Compliance filing: Chandeleur LAUF Filing to be effective N/A.

Filed Date: 12/1/25.

Accession Number: 20251201-5428.

Comment Date: 5 p.m. ET 12/15/25.

Docket Numbers: RP26-259-000.

Applicants: Gas Transmission Northwest LLC.

Description: Compliance filing: Annual Fuel Charge Adjustment 2025 Report to be effective N/A.

Filed Date: 12/1/25.

Accession Number: 20251201-5442.

Comment Date: 5 p.m. ET 12/15/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: December 1, 2025.
Carlos D. Clay,
Deputy Secretary.

[FR Doc. 2025-21946 Filed 12-3-25; 8:45 am]

BILLING CODE 6717-01-P